DEPARTMENT OF COMMERCE

Bureau of Industry and Security

Nordwind Airlines, Leningradskaya Str., Building 25, Office 27. 28, Moscow Region, Khimki City, 141402, Russia; Modification of June 15, 2023 Renewal of Temporary Denial Order

Pursuant to Section 766.24 of the Export Administration Regulations, 15 CFR parts 730-774 (2021) (“EAR” or “the Regulations”),¹ I hereby grant the request of the Office of Export Enforcement (“OEE”) to modify the order that I issued on June 15, 2023, renewing the temporary denial order (“TDO”) in this matter (“June 15, 2023 renewal order”).² OEE has requested that the following party be removed from the TDO:

¹ On August 13, 2018, the President signed into law the John S. McCain National Defense Authorization Act for Fiscal Year 2019, which includes the Export Control Reform Act of 2018, 50 U.S.C. 4801-4852 (“ECRA”). While section 1766 of ECRA repeals the provisions of the Export Administration Act, 50 U.S.C. app. 2401 et seq. (“EAA”), (except for three sections which are inapplicable here), section 1768 of ECRA provides, in pertinent part, that all orders, rules, regulations, and other forms of administrative action that were made or issued under the EAA, including as continued in effect pursuant to the International Emergency Economic Powers Act, 50 U.S.C. 1701 et seq. (“IEEPA”), and were in effect as of ECRA's date of enactment (August 13, 2018), shall continue in effect according to their terms until modified, superseded, set aside, or revoked through action undertaken pursuant to the authority provided under ECRA. Moreover, section 1761(a)(5) of ECRA authorizes the issuance of temporary denial orders. 50 U.S.C. 4820(a)(5).

² The June 15, 2023 renewal order was published on June 21, 2023. (88 FR 40202).

Pegas Touristik, a/k/a Pegas Touristik OOO, 5 building 1 Volokolamsk Highway, Moscow, Russian Federation, 125080, and

Yenigöl, Nergiz Sk. No:94/1, Muratpaşa/Antalya, Türkiye, 07230

I. Procedural History

On June 24, 2022, I signed an order denying the export privileges of Nordwind Airlines (“Nordwind”) for a period of 180 days on the ground that issuance of the order was necessary in the public interest to prevent an imminent violation of the Regulations. The order was issued ex parte pursuant to section 766.24(a) of the Regulations and was effective upon issuance.³ This temporary denial order was subsequently renewed in accordance with section 766.24(d) of the Regulations.⁴ The renewal order issued on December 20, 2022, and was effective upon issuance.⁵

³ The TDO was published in the Federal Register on June 29, 2022 (87 FR 38704).

⁴ Section 766.24(d) provides that BIS may seek renewal of a temporary denial order for additional 180-day renewal periods, if it believes that renewal is necessary in the public interest to prevent an imminent violation. Renewal requests are to be made in writing no later than 20 days before the scheduled expiration date of a temporary denial order. Renewal requests may include discussion of any additional or changed circumstances, and may seek appropriate modifications to the order, including the addition of parties as respondents or related persons.

⁵ The December 20, 2022 renewal order was published in the Federal Register on December 27, 2022 (87 FR 79725).

On May 18, 2023, BIS, through OEE, submitted a written request for renewal of the Nordwind TDO that issued on December 20, 2022. The written request was made more than 20 days before the TDO's scheduled expiration. A copy of the renewal request was sent to Nordwind in accordance with sections 766.5 and 766.24(d) of the Regulations. No opposition to the renewal of the TDO was received. OEE submitted a separate written request under the Regulations that Pegas Touristik be added to the TDO. On June 15, 2023, I issued an order renewing the Nordwind TDO based upon on-going violations of the TDO and the Regulations including the reexport of aircraft subject to the EAR on flights into Russia from Bokhar, Tajikistan, Tehran, Iran, and Osh, Kyrgyzstan, respectively. The June 15 renewal order also added Pegas Touristik as a related person. OEE has since requested that Pegas Touristik be removed from the TDO to allow the opportunity for additional administrative process under part 766 of the Regulations.

Having considered OEE's request, I find that Pegas Touristik should be removed from the TDO to allow the opportunity for additional administrative process under part 766 of the Regulations. The TDO shall remain in full force and effect as to Nordwind.

II. Order

It is therefore ordered:

First, Nordwind Airlines, with an address at Leningradskaya str., building 25, office 27. 28, Moscow region, Khimki city, 141402, Russia, when acting for or on their behalf, any successors or assigns, agents, or employees, may not, directly or indirectly, participate in any way in any transaction involving any commodity, software or technology (hereinafter collectively referred to as “item”) exported or to be exported from the United States that is subject to the EAR, or in any other activity subject to the EAR including, but not limited to:

A. Applying for, obtaining, or using any license (except directly related to safety of flight), license exception, or export control document;

B. Carrying on negotiations concerning, or ordering, buying, receiving, using, selling, delivering, storing, disposing of, forwarding, transporting, financing, or otherwise servicing in any way, any transaction involving any item exported or to be exported from the United States that is subject to the EAR except directly related to safety of flight and authorized by BIS pursuant to section 764.3(a)(2) of the Regulations, or engaging in any other activity subject to the EAR except directly related to safety of flight and authorized by BIS pursuant to section 764.3(a)(2) of the Regulations; or

C. Benefitting in any way from any transaction involving any item exported or to be exported from the United States that is subject to the EAR, or from any other activity subject to the EAR except directly related to safety of flight and authorized by BIS pursuant to section 764.3(a)(2) of the Regulations.

Second, that no person may, directly or indirectly, do any of the following:

A. Export, reexport, or transfer (in-country) to or on behalf of Nordwind any item subject to the EAR except directly related to safety of flight and authorized by BIS pursuant to section 764.3(a)(2) of the Regulations;

B. Take any action that facilitates the acquisition or attempted acquisition by Nordwind of the ownership, possession, or control of any item subject to the EAR that has been or will be exported from the United States, including financing or other support activities related to a transaction whereby Nordwind acquires or attempts to acquire such ownership, possession or control except directly related to safety of flight and authorized by BIS pursuant to section 764.3(a)(2) of the Regulations;

C. Take any action to acquire from or to facilitate the acquisition or attempted acquisition from Nordwind of any item subject to the EAR that has been exported from the United States except directly related to safety of flight and authorized by BIS pursuant to section 764.3(a)(2) of the Regulations;

D. Obtain from Nordwind in the United States any item subject to the EAR with knowledge or reason to know that the item will be, or is intended to be, exported from the United States except directly related to safety of flight and authorized by BIS pursuant to section 764.3(a)(2) of the Regulations; or

E. Engage in any transaction to service any item subject to the EAR that has been or will be exported from the United States and which is owned, possessed or controlled by Nordwind, or service any item, of whatever origin, that is owned, possessed or controlled by Nordwind if such service involves the use of any item subject to the EAR that has been or will be exported from the United States except directly related to safety of flight and authorized by BIS pursuant to section 764.3(a)(2) of the Regulations. For purposes of this paragraph, servicing means installation, maintenance, repair, modification, or testing.

Third, that, after notice and opportunity for comment as provided in section 766.23 of the EAR, any other person, firm, corporation, or business organization related to Nordwind by ownership, control, position of responsibility, affiliation, or other connection in the conduct of trade or business may also be made subject to the provisions of this Order.

In accordance with the provisions of sections 766.24(e) of the EAR, Nordwind may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. A renewal request may be opposed by Nordwind as provided in section 766.24(d), by filing a written submission with the Assistant Secretary of Commerce for Export Enforcement, which must be received not later than seven days before the expiration date of the Order.

A copy of this Order shall be provided to Nordwind and Pegas Touristik and shall be published in the Federal Register.

This Order is effective immediately and shall remain in effect until December 12, 2023, unless renewed in accordance with Section 766.24(d) of the Regulations.

Dated: June 27, 2023.
Matthew S. Axelrod,
Assistant Secretary of Commerce for Export Enforcement.

[FR Doc. 2023-13962 Filed 6-29-23; 8:45 am]

BILLING CODE 3510-DT-P